DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 13, 2026 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Strategic Economic and Community Development.

OMB Control Number: 0570-0068.

Summary of Collection: As authorized under the Agricultural Act of 2018 (2018 Farm Bill), the Strategic Economic and Community Development (SECD) program establishes reserved funds through Rural Development programs to fund projects that support the implementation of multijurisdictional and multisectoral strategic community investment plans (Plan).

Need and Use of the Information: Section 6401 relies on the covered programs' methods for program administration. Thus, to the extent the covered programs use collection techniques other than the submittal of written material, this program will follow suit.

Regarding the covered programs, USDA—Rural Development has considered the use of improved information technology to reduce the burden on the applicants. The information involved is unique to each particular case. Automating the written narrative portion of the application assists the applicant and USDA—Rural Development because most is completed and submitted electronically.

Description of Respondents: Business or other for-profit; Not-for-profit institutions.

Number of Respondents: 100.

Frequency of Responses: Reporting: On occasion.

Total Burden Hours: 580.

Rural Business-Cooperative Service

Title: Food Supply Chain Guaranteed Loan Program.

OMB Control Number: 0570-0077.

Summary of Collection: Section 1001 of the American Recovery Act of 2021, Public Law 117-2 provided funding for fiscal year 2022 (FY22) to the Secretary of Agriculture to provide assistance to maintain and improve food and agricultural supply chain resiliency.

The purpose of the Food Supply Chain (FSC) Guaranteed loan program was to make funds available to qualified applicants and projects to facilitate financing for the start-up or expansion of activities in the middle of the food supply chain, particularly the aggregation, processing, manufacturing, storing, transporting, wholesaling, or distribution of food, to increase capacity and help create a more resilient, diverse, and secure U.S. food supply chain.

FSC no longer has funding available, and RD is no longer accepting applications for new loans in the program. All FSC loans in the portfolio are now being serviced in accordance with established regulations.

Need and Use of the Information: The FSC program requested application submission via an online application system. The use of this system allows the Agency to receive the applications electronically. Applicants who receive funding will be encouraged, but not required, to submit, as applicable, performance reports, and the annual status reports electronically. As such, all reporting requirements noted above, both written/non-forms and forms approved under other OMB control numbers, can be submitted electronically through online systems. The Agency will not require submission by electronic methods because some applicants may not have the technological expertise for electronic submission or may not have the equipment necessary for high technological information gathering.

The information provided will be used to determine applicant and project eligibility and to ensure that projects meet program goals and are for authorized purposes.

Description of Respondents: Businesses or other for-profits; Farms; Not-for-profit institutions.

Number of Respondents: 311.

Frequency of Responses: Reporting: Annually.

Total Burden Hours: 1,292.

Levi S. Harrell,
Departmental Information Collection Clearance Officer.

[FR Doc. 2026-00583 Filed 1-13-26; 8:45 am]

BILLING CODE 3410-XY-P